FEDERAL COMMUNICATIONS COMMISSION

[OMB 3060-XXXX]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before October 7, 2019. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

SUPPLEMENTARY INFORMATION: OMB Control Number: 3060-XXXX.

Title: Toll Free Number Auctions.

Form Number: FCC-5633.

Type of Review: New information collection.

Respondents: Individuals or Households, Business or other for-profit, Not-for-profit Institutions, Farms and/or Federal, State, Local and/or Tribal government agencies.

Number of Respondents and Responses: 1,220 respondents; 1,220 responses.

Estimated Time per Response: 0.084 hours (5 minutes)-0.166 hours (10 minutes).

Frequency of Response: On occasion and one-time reporting requirements.

Obligation to Respond: Required to obtain or retain benefits. Statutory authority for this information collection is contained in 47 U.S.C. 251(e)(1).

Total Annual Burden: 105 hours.

Total Annual Cost: No Cost.

Privacy Act Impact Assessment: The Commission is preparing to conduct a Privacy Act Impact Assessment (PIA).

Nature and Extent of Confidentiality: The Commission is not requesting that respondents for this information collection (LOA and Secondary Market) submit confidential information to the FCC. For individuals, the Privacy Act, 5 U.S.C. 552a, is the statutory authority for confidentiality and it applies to this information collection. Respondents may, however, request confidential treatment for information they believe to be confidential under 47 CFR 0.459 of the Commission's rules.

Needs and Uses: On September 27, 2018, the Commission released a Report and Order in WC Docket No. 17-192, FCC 18-137 (Report and Order). In the Report and Order, the Commission established competitive bidding as a toll free number assignment method, and called for an auction for select numbers in the toll free code 833 as an experiment to test this method. To verify the relationship between the responsible organization (RespOrg) and the potential subscriber, a Letter of Authorization (LOA) is required during the bidding process. Additionally, a key component to the effectiveness of the auction is the adoption of a post-auction secondary market (Secondary Market) for the sale of the rights to use 833 code toll free numbers. Collecting data on Secondary Market transactions will allow the Commission to evaluate the entire experimental auction process and determine the potential use of competitive bidding in future toll free number assignments.

Federal Communications Commission.
Marlene Dortch,
Secretary, Office of the Secretary.

[FR Doc. 2019-16896 Filed 8-6-19; 8:45 am]

BILLING CODE 6712-01-P